DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 20, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Carroll County, Indiana and Incorporated Areas
Docket No.: FEMA-B-1811
Unincorporated Areas of Carroll County | Carroll County Area Plan Commission, Carroll County Courthouse, 101 West Main Street, Delphi, IN 46923.
Montgomery County, Kansas and Incorporated Areas
Docket No.: FEMA-B-1759
City of Caney | City Hall, 100 West 4th Avenue, Caney, KS 67333.
City of Cherryvale | City Hall, 123 West Main Street, Cherryvale, KS 67335.
City of Coffeyville | Engineering Department, 102 West 7th Street, Coffeyville, KS 67337.
City of Dearing | City Clerk's Office, 306 South Independence Avenue, Dearing, KS 67340.
City of Elk City | City Hall, 114 North Montgomery Avenue, Elk City, KS 67344.
City of Havana | Montgomery County Judicial Center, 300 East Main Street, Lower Level, Independence, KS 67301.
City of Independence | Montgomery County Judicial Center, 300 East Main Street, Lower Level, Independence, KS 67301.
City of Liberty | Montgomery County Judicial Center, 300 East Main Street, Lower Level, Independence, KS 67301.
City of Tyro | City of Tyro Clerk's Office, 1655 County Road 2700, Caney, KS 67333.
Unincorporated Areas of Montgomery County | Montgomery County Judicial Center, 300 East Main Street, Lower Level, Independence, KS 67301.
Jefferson County, Missouri and Incorporated Areas
Docket No.: FEMA-B-1720
City of Arnold | City Hall, 2101 Jeffco Boulevard, Arnold, MO 63010.
City of Byrnes Mill | City Hall, 141 Osage Executive Circle, Byrnes Mill, MO 63051.
City of Crystal City | City Hall, 130 Mississippi Avenue, Crystal City, MO 63019.
City of De Soto | City Hall, 17 Boyd Street, De Soto, MO 63020.
City of Festus | City Hall, 711 West Main Street, Festus, MO 63028.
City of Herculaneum | City Hall, 1 Parkwood Court, Herculaneum, MO 63048.
City of Hillsboro | City Hall, 101 Main Street, Hillsboro, MO 63050.
City of Kimmswick | City Hall, 6041 3rd Street, Kimmswick, MO 63053.
City of Olympian Village | Olympian Village City Hall, 205 Kronos Drive, De Soto, MO 63020.
City of Pevely | City Hall, 401 Main Street, Pevely, MO 63070.
Town of Scotsdale | Jefferson County Annex, 725 Maple Street, Hillsboro, MO 63050.
Unincorporated Areas of Jefferson County | Jefferson County Annex, 725 Maple Street, Hillsboro, MO 63050.
Village of Cedar Hill Lakes | Cedar Hill Lakes Village Office, 7344B Springdale Drive, Cedar Hill, MO 63016.
City of Carson City, Nevada (Independent City)
Docket No.: FEMA-B-1738
City of Carson City | Carson City Permit Center, 108 East Proctor Street, Carson City, NV 89701.
Perry County, Pennsylvania (All Jurisdictions)
Docket No.: FEMA-B-1808
Borough of Blain | Borough Office, 155 East Main Street, Blain, PA 17006.
Borough of Bloomfield | Bloomfield Borough Building, 25 East McClure Street, New Bloomfield, PA 17068.
Borough of Duncannon | Borough Office, 428 North High Street, Duncannon, PA 17020.
Borough of Liverpool | Liverpool Borough Office, 401 Locust Street, Liverpool, PA 17045.
Borough of Marysville | Borough Office, 200 Overcrest Road, Marysville, PA 17053.
Borough of New Buffalo | Borough Office, 32 Mill Street, New Buffalo, PA 17069.
Township of Buffalo | Buffalo Township Office, 22 Cherry Road, Liverpool, PA 17045.
Township of Carroll | Carroll Township Municipal Building, 50 Rambo Hill Road, Shermans Dale, PA 17090.
Township of Centre | Centre Township Office, 2971 Cold Storage Road, New Bloomfield, PA 17068.
Township of Greenwood | Greenwood Township Municipal Building, 17 Pines Drive, Millerstown, PA 17062.
Township of Jackson | Jackson Township Office, 890 Fowler Hollow Road, Blain, PA 17006.
Township of Liverpool | Liverpool Township Office, 1121 Ridge Road, Liverpool, PA 17045.
Township of Miller | Miller Township Office, 554 Old Limekiln Lane, Newport, PA 17074.
Township of Northeast Madison | Northeast Madison Township Office, 979 Quarry Road, Loysville, PA 17047.
Township of Penn | Penn Township Office, 100 Municipal Building Road, Duncannon, PA 17020.
Township of Rye | Rye Township Office, 1775 New Valley Road, Marysville, PA 17053.
Township of Saville | Saville Township Office, 3954 Veterans Way, Elliottsburg, PA 17024.
Township of Southwest Madison | Southwest Madison Township Office, 94 Bistline Bridge Road, Loysville, PA 17047.
Township of Spring | Spring Township Office, 539 Paige Hill Road, Landisburg, PA 17040.
Township of Toboyne | Toboyne Township Office, 50 Lower Buck Ridge Road, Blain, PA 17006.
Township of Tyrone | Tyrone Township Office, 3129 Shermans Valley Road, Loysville, PA 17047.
Township of Watts | Watts Township Office, 112 Notch Road, Duncannon, PA 17020.
Township of Wheatfield | Wheatfield Township Office, 1280 New Bloomfield Road, New Bloomfield, PA 17068.
Greenwood County, South Carolina and Incorporated Areas
Docket No.: FEMA-B-1814
Unincorporated Areas of Greenwood County | Greenwood County Courthouse, 528 Monument Street, Greenwood, SC 29646.
Laurens County, South Carolina and Incorporated Areas
Docket No.: FEMA-B-1814
Unincorporated Areas of Laurens County | Laurens County Administration Office, 100 Hillcrest Square, Suite C, Laurens, SC 29360.
Newberry County, South Carolina and Incorporated Areas
Docket No.: FEMA-B-1814
Unincorporated Areas of Newberry County | Newberry County Planning and Zoning Department, 1512 Martin Street, Newberry, SC 29108.
Mason County, Washington and Incorporated Areas
Docket No.: FEMA-B-1710
City of Shelton | City Hall, 525 West Cota Street, Shelton, WA 98584.
Skokomish Indian Tribe | Skokomish Tribal Center, 80 North Tribal Center Road, Skokomish Nation, WA 98584.
Squaxin Island Tribe | Squaxin Island Tribal Center, 10 Southeast Squaxin Lane, Shelton, WA 98584.
Unincorporated Areas of Mason County | Mason County Public Works, 100 West Public Works Drive, Shelton, WA 98584.

[FR Doc. 2019-07165 Filed 4-10-19; 8:45 am]

BILLING CODE 9110-12-p